DEPARTMENT OF LABOR

Employment and Training Administration

[NAFTA-5572]

Regal Manufacturing Company, Textured Yarn Department, Hickory, NC; Dismissal of Application for Reconsideration

Pursuant to 29 CFR 90.18(C) an application for administrative reconsideration was filed with the Director of the Division of Trade Adjustment Assistance for workers at Regal Manufacturing Company, Textured Yarn Department, Hickory, North Carolina. The application contained no new substantial information which would bear importantly on the Department's determination. Therefore, dismissal of the application was issued.

NAFTA-5572; Regal Manufacturing Company, Textured Yarn Department, Hickory, North Carolina (May 14, 2002)

Signed at Washington, DC, this 16th day of May, 2002.
Edward A. Tomchick,
Director, Division of Trade Adjustment Assistance.

[FR Doc. 02-18062 Filed 7-17-02; 8:45 am]

BILLING CODE 4510-30-M